DEPARTMENT OF HEALTH AND HUMAN SERVICES

Centers for Disease Control and Prevention

[CDC-2018-0033; Docket Number NIOSH-311]

Final National Occupational Research Agenda for Public Safety

AGENCY: National Institute for Occupational Safety and Health (NIOSH), Centers for Disease Control and Prevention (CDC), Department of Health and Human Services (HHS).

ACTION: Notice of availability.

SUMMARY: NIOSH announces the availability of the final National Occupational Research Agenda for Public Safety.

DATES: The final document was published March 6, 2019 on the CDC website.

ADDRESSES: The document may be obtained at the following link: https://www.cdc.gov/nora/councils/pubsaf/research_agenda.html.

FOR FURTHER INFORMATION CONTACT: Emily Novicki, M.A., M.P.H, (NORACoordinator@cdc.gov), National Institute for Occupational Safety and Health, Centers for Disease Control and Prevention, Mailstop E-20, 1600 Clifton Road NE, Atlanta, GA 30329, phone (404) 498-2581 (not a toll free number).

SUPPLEMENTARY INFORMATION: On April 12, 2018, NIOSH published a request for public review in the Federal Register [83 FR 15838] of the draft version of the National Occupational Research Agenda for Public Safety. All comments received were reviewed and addressed where appropriate.

Dated: March 7, 2019.
Frank J. Hearl,
Chief of Staff, National Institute for Occupational Safety and Health, Centers for Disease Control and Prevention.

[FR Doc. 2019-04460 Filed 3-11-19; 8:45 am]

BILLING CODE 4163-19-P